DEPARTMENT OF HEALTH AND HUMAN SERVICES

Centers for Disease Control and Prevention

Board of Scientific Counselors, National Center for Injury Prevention and Control

AGENCY: Centers for Disease Control and Prevention (CDC), Department of Health and Human Services (HHS).

ACTION: Notice of meeting.

SUMMARY: In accordance with the Federal Advisory Committee Act, the CDC announces the following meeting for the Board of Scientific Counselors (BSC), National Center for Injury Prevention and Control (NCIPC). This meeting is open to the public, limited only by the ports available. There will be 2,000 telephone ports available. There will be 40 minutes allotted for oral public comments at the end of the open session from 12:20 p.m. to 1:00 p.m. on July 22, 2020.

The public is encouraged to register to participate by telephone and/or provide oral public comment using the registration form available at the link provided: https://www.surveymonkey.com/r/NVV9XM2.

Individuals registered to provide oral public comment will be called upon to speak based on the order of registration. After persons who have registered have spoken, any remaining time in the oral public comment period will be used for members of the public who have not registered to speak but wish to offer comment. Individuals making oral public comment during the meeting will have a 2-minute speaking limit to allow for as many comments as possible.

DATES: The meeting will be held on July 22, 2020, 10:00 a.m. to 1:00 p.m., EDT (OPEN) and July 22, 2020, 1:45 p.m. to 4:15 p.m., EDT (CLOSED).

ADDRESSES: Teleconference 1-800-369-3110; Participant Code 7563795.

FOR FURTHER INFORMATION CONTACT: Gwendolyn H. Cattledge, Ph.D., M.S.E.H., Deputy Associate Director for Science, NCIPC, CDC, 4770 Buford Highway NE, Mailstop S106-9, Atlanta, GA 30341, Telephone (770) 488-3953, Email address: NCIPCBSC@cdc.gov.

SUPPLEMENTARY INFORMATION: Portions of the meeting as designated above will be closed to the public in accordance with provisions set forth in Section 552b(c)(4) and (6), Title 5 U.S.C., and the Determination of the Director, Strategic Business Initiatives Unit, Office of the Chief Operating Officer, CDC pursuant to Public Law 92-463.

Purpose: The Board will: (1) Conduct, encourage, cooperate with, and assist other appropriate public health authorities, scientific institutions, and scientists in the conduct of research, investigations, experiments, demonstrations, and studies relating to the causes, diagnosis, treatment, control, and prevention of physical and mental diseases, and other impairments; (2) assist States and their political subdivisions in preventing and suppressing communicable and non-communicable diseases and other preventable conditions and in promoting health and well-being; and (3) conduct and assist in research and control activities related to injury. The BSC, NCIPC makes recommendations regarding policies, strategies, objectives, and priorities; reviews progress toward injury prevention goals; and provides evidence in injury prevention-related research and programs. The Board also provides advice on the appropriate balance of intramural and extramural research, as well as the structure, progress and performance of intramural programs. The Board is designed to provide guidance on extramural scientific program matters, including the: (1) Review of extramural research concepts for funding opportunity announcements; (2) conduct of Secondary Peer Review of extramural research grants, cooperative agreements, and contracts applications received in response to the funding opportunity announcements as they relate to the Center's programmatic balance and mission; (3) submission of secondary review recommendations to the Center Director of applications to be considered for funding support; (4) review of research portfolios; and (5) review of program proposals.

Matters To Be Considered: The open portion of the agenda will include an update on the formation of the BSC, NCIPC Opioid Workgroup, a presentation focused on opportunities for stakeholder engagement on management of acute and chronic pain, and an update on the CDC Opioid Prescribing Estimates Project. All presentations will be followed by discussion by the BSC. The closed portion of the agenda will focus on the secondary peer review of extramural research grant applications received in response to two (2) Notice of Funding Opportunities (NOFOs): RFA-CE20-001—“Evaluating Practice-Based Programs, Policies, and Practices from CDC's Rape Prevention and Education (RPE) Program: Expanding the Evidence to Prevent Sexual Violence”; and RFA-CE20-003—“Research Grants for Preventing Violence and Violence-Related Injury” (R01). Agenda items are subject to change as priorities dictate.

The Director, Strategic Business Initiatives Unit, Office of the Chief Operating Officer, CDC, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2020-10891 Filed 5-19-20; 8:45 am]

BILLING CODE 4163-18-P